DEPARTMENT OF HOMELAND SECURITY

Coast Guard

33 CFR Part 117

[Docket No. USCG-2015-0970]

Drawbridge Operation Regulation; Houma Navigation Canal, Mile 36.0, at Houma, Terrebonne Parish, LA

AGENCY: Coast Guard, DHS.

ACTION: Notice of deviation from regulation.

SUMMARY: The Coast Guard has issued a temporary deviation from the operating schedule that governs the SR 661 Swing Bridge across the Houma Navigation Canal, mile 36.0, in Houma, Terrebonne Parish, Louisiana. The deviation is necessary to conduct scheduled metal repairs and maintenance. This deviation allows the bridge to remain closed-to-navigation for up to six daylight hours each weekday for two weeks.

DATES: This deviation is effective from 6 a.m. on November 9, 2015, until 6 p.m. on November 20, 2015.

ADDRESSES: The docket for this deviation, [USCG-2015-0970] is available at http://www.regulations.gov.

FOR FURTHER INFORMATION CONTACT: If you have questions on this temporary deviation, call or email Jim Wetherington, Bridge Administration Branch, Coast Guard, telephone (504)671-2128, email james.r.wetherington@uscg.mil.

SUPPLEMENTARY INFORMATION: C.E.C., Inc., for the Louisiana Department of Transportation and Development (LDOTD), requested a temporary deviation from the operating schedule of the SR 661 Swing Bridge across the Houma Navigation Canal, mile 36.0, in Houma, Terrebonne Parish, Louisiana. The vertical clearance of the swing bridge is one foot above mean high water in the closed-to-navigation position and unlimited in the open-to-navigation position. The bridge is governed by 33 CFR 117.455.

This deviation will be in effect from 6 a.m. through 6 p.m., daily, from November 9, 2015, until November 20, 2015 except weekends. This Deviation allows the bridge to remain closed-to-navigation for up to six hours, from 6 a.m. through 6 p.m. daily. During the evening and weekend time periods, the bridge will be left in the open-to-navigation position. During the closure periods, the contractor will make every effort to minimize the delays to mariners as well as maintain the bridge in the open-to-navigation position at all times when that repair work is not being conducted. Marine traffic, when allowed to pass, should pass at the slowest safe speed. The deviation was requested for the purpose of conducting necessary repairs and maintenance, including metal structure and rivet repair.

Navigation on the waterway consists primarily of commercial tugs and recreational craft. The contractor has informed the waterway users of the upcomming delays. This deviation is similar to previous work schedules and no issues were noted.

Vessels able to pass through the bridge in the closed-to-navigation position may do so at anytime. The bridge will be able to open for emergencies, and there is no immediate alternate route. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: October 20, 2015.
David M. Frank,
Bridge Administrator, Eighth Coast Guard District.

[FR Doc. 2015-27130 Filed 10-23-15; 8:45 am]

BILLING CODE 9110-04-P